DEPARTMENT OF COMMERCE

National Institute of Standards and Technology

National Fire Codes: Request for Comments on NFPA Technical Committee Reports

AGENCY: National Institute of Standards and Technology, Commerce.

ACTION: Notice.

SUMMARY: The National Institute of Standards and Technology (NIST) is publishing this notice on behalf of the National Fire Protection Association (NFPA) to announce the availability of and request comments on the technical reports that will be presented at NFPA's 2013 Annual Revision Cycle.

DATES: Twenty-one reports are published in the 2013 Annual Cycle Report on Proposals and will be available on June 22, 2012. Comments received by 5:00 p.m. ET on or before August 31, 2012 will be considered by the respective NFPA Committees before final action is taken on the proposals.

ADDRESSES: The 2013 Annual Revision Cycle Report on Proposals is available and downloadable from NFPA's Web site—www/nfpa.org, or by requesting a copy from the NFPA, Fulfillment Center, 11 Tracy Drive, Avon, Massachusetts 02322. Comments on the report should be submitted to Amy Beasley Cronin, Secretary, Standards Council, NFPA, 1 Batterymarch Park, Quincy, Massachusetts 02169-7471.

FOR FURTHER INFORMATION CONTACT: Amy Beasley Cronin, Secretary, Standards Council, NFPA, 1 Batterymarch Park, Quincy, Massachusetts 02169-7471, (617) 770-3000. David F. Alderman, NIST, 301-975-4019.

SUPPLEMENTARY INFORMATION: Since 1896, the National Fire Protection Association (NFPA) has accomplished its mission by advocating scientifically based consensus codes and standards, research, and education for safety related issues. NFPA's National Fire Codes,® which holds over 290 documents, are administered by more than 244 Technical Committees comprised of approximately 7,800 volunteers and are adopted and used throughout the world. NFPA is a nonprofit membership organization with approximately 70,000 members from over 70 nations, all working together to fulfill the Association's mission.

The NFPA process provides ample opportunity for public participation in the development of its codes and standards. All NFPA codes and standards are revised and updated every three to five years in Revision Cycles that begin twice each year and that take approximately two years to complete. Each Revision Cycle proceeds according to a published schedule that includes final dates for all major events in the process. The code revision Process contains five basic steps that are followed for developing new documents as well as revising existing documents: Call for Proposals; Report on Proposals (ROP); Call for Comments on the Committee's disposition of the Proposals and publication of these Comments in the Report on Comments (ROC); the Association Technical Meeting at the NFPA Conference & Expo; and finally, the Standards Council Consideration and Issuance of documents.

Note: NFPA rules state that, anyone wishing to make Amending Motions on the Technical Committee Reports (ROP and ROC) must signal his or her intention by submitting a Notice of Intent to Make a Motion by the Deadline of 5:00 p.m. ET on or before April 5, 2013. Certified motions will be posted by May 3, 2013. Documents that receive notice of proper Amending Motions (Certified Amending Motions) will be presented for action at the Annual 2013 Association Technical Meeting. Documents that receive no motions will be forwarded directly to the Standards Council for action and issuance through a Consent Document Ballot by the end of May 2013.

For more information on these new rules and for up-to-date information on schedules and deadlines for processing NFPA Documents, check the NFPA Web site at www.nfpa.org, or contact NFPA Codes and Standards Administration.

The purpose of this notice is to request comments on the technical reports that will be presented at NFPA's 2013 Annual Revision Cycle. The publication of this notice by the National Institute of Standards and Technology (NIST) on behalf of NFPA is being undertaken as a public service; NIST does not necessarily endorse, approve, or recommend any of the standards referenced in the notice.

Background

The National Fire Protection Association (NFPA) develops building, fire, and electrical safety codes and standards. Federal agencies frequently use these codes and standards as the basis for developing Federal regulations concerning fire safety. Often, the Office of the Federal Register approves the incorporation by reference of these standards under 5 U.S.C. 552(a) and 1 CFR part 51.

Request for Comments

Interested persons may participate in these revisions by submitting written data, views, or arguments, to Amy Beasley Cronin, Secretary, Standards Council, NFPA, 1 Batterymarch Park, Quincy, Massachusetts 02169-7471. Commenters may use the forms provided for comments in the Reports on Proposals. Each person submitting a comment should include his or her name and address, identify the notice, and give reasons for any recommendations. Comments received by 5:00 p.m. ET on or before August 31, 2012 for the 2013 Annual Cycle Report on Proposals will be considered by the NFPA before final action is taken on the proposals.

Copies of all written comments received and the disposition of those comments by the NFPA committees will be published as the 2013 Annual Cycle Report on Comments by February 22, 2013. A copy of the Report on Comments will be sent automatically to each commenter. Reports of the Technical Committees on documents that do not receive a Notice of Intent to Make a Motion will automatically be forwarded to the Standards Council for action on issuance. Action on the reports of the Technical Committees on documents that do receive a Notice of Intent to Make a Motion will be taken at the Association Technical Meeting, which is held at the NFPA Conference & Expo, June 10-13, 2013 in Chicago, Illinois, by the NFPA membership.

2013 Annual Meeting—Report on Proposals
[P = Partial revision; W = Withdrawal; R = Reconfirmation; N = New; C = Complete Revision]
NFPA 25 | Standard for the Inspection, Testing, and Maintenance of Water-Based Fire Protection Systems | P
NFPA 51B | Standard for Fire Prevention During Welding, Cutting, and Other Hot Work | P
NFPA 56PS | Standard for Fire and Explosion Prevention During Cleaning and Purging of Flammable Gas Piping Systems | P
NFPA 58 | Liquefied Petroleum Gas Code | P
NFPA 70 | National Electrical Code® | P
NFPA 77 | Recommended Practice on Static Electricity | P
NFPA 96 | Standard for Ventilation Control and Fire Protection of Commercial Cooking Operations | P
NFPA 130 | Standard for Fixed Guideway Transit and Passenger Rail Systems | P
NFPA 306 | Standard for the Control of Gas Hazards on Vessels | P
NFPA 403 | Standard for Aircraft Rescue and Fire-Fighting Services at Airports | P
NFPA 412 | Standard for Evaluating Aircraft Rescue and Fire-Fighting Foam Equipment | P
NFPA 502 | Standard for Road Tunnels, Bridges, and Other Limited Access Highways | P
NFPA 610 | Guide for Emergency and Safety Operations at Motorsports Venues | P
NFPA 780 | Standard for the Installation of Lightning Protection Systems | P
NFPA 1002 | Standard for Fire Apparatus Driver/Operator Professional Qualifications | P
NFPA 1021 | Standard for Fire Officer Professional Qualifications | P
NFPA 1026 | Standard for Incident Management Personnel Professional Qualifications | P
NFPA 1031 | Standard for Professional Qualifications for Fire Inspector and Plan Examiner | P
NFPA 1033 | Standard for Professional Qualifications for Fire Investigator | P
NFPA 1123 | Code for Fireworks Display | P
NFPA 1143 | Standard for Wildland Fire Management | P

Dated: May 21, 2012.
Willie E. May,
Associate Director for Laboratory Programs.

[FR Doc. 2012-12779 Filed 5-24-12; 8:45 am]

BILLING CODE 3510-13-P